NATIONAL FOUNDATION ON THE ARTS AND THE HUMANITIES

National Endowment for the Arts

30-Day Notice for the “Blanket Justification for National Endowment for the Arts Funding Application Guidelines and Requirements”

AGENCY: National Endowment for the Arts, National Foundation on the Arts and the Humanities.

ACTION: Submission for OMB review; comment request.

SUMMARY: The National Endowment for the Arts (Arts Endowment) has submitted the following public information collection request (ICR) to the Office of Management and Budget (OMB) for review and approval in accordance with the Paperwork Reduction Act of 1995: Blanket Justification for National Endowment for the Arts Funding Application Guidelines and Requirements. Copies of this ICR, with applicable supporting documentation, may be obtained by visiting www.Reginfo.gov.

DATES: Interested persons are invited to submit comments within 30 days from the date of this publication in the Federal Register.

ADDRESSES: Written comments should be sent to the Office of Information and Regulatory Affairs, Attn: OMB Desk Officer for the National Endowment for the Arts, Office of Management and Budget, Room 10235, Washington, DC 20503, (T) 202-395-7316.

FOR FURTHER INFORMATION CONTACT: The Office of Information and Regulatory Affairs, Attn: Shagufta Ahmed, OMB Desk Officer for the National Endowment for the Arts, Office of Management and Budget, Room 10235, Washington, DC 20503, (T) 202-395-7316.

SUPPLEMENTARY INFORMATION: The Office of Management and Budget (OMB) is particularly interested in comments which: (1) Evaluate whether the proposed collection of information is necessary for the proper performance of the functions of the agency, including whether the information will have practical utility; (2) Evaluate the accuracy of the agency's estimate of the burden of the proposed collection of information including the validity of the methodology and assumptions used; (3) Enhance the quality, utility, and clarity of the information to be collected; and (4) Could help minimize the burden of the collection of information on those who are to respond, including through the use of electronic submission of responses through Grants.gov.

Agency: National Endowment for the Arts

Title of Collection: Blanket Justification for National Endowment for the Arts Funding Application Guidelines and Requirements.

OMB Number: 3135-0112.

Frequency: Annually.

Affected Public: Nonprofit organizations, government agencies, and individuals.

Estimated Number of Respondents: 6,713.

Estimated Time Per Respondent: 20 hours.

Total Burden Hours: 131,032.

Total Annualized Capital/Startup Costs: 0.

Total Annual Costs (Operating/Maintaining Systems or Purchasing Services): 0.

The National Endowment for the Arts requests the review of its funding application guidelines and requirements. Application guidelines elicit relevant information from individuals, nonprofit organizations, and government agencies that apply for funding from the National Endowment for the Arts. This information is necessary for the accurate, fair, and thorough consideration of competing proposals in the review process. This request is issued by the National Endowment for the Arts and contains the following information: (1) the title of the form; (2) how often the required information will be collected; (3) who will be required or asked to use the form; (4) what the form will be used for; (5) an estimate of the number of responses; (6) the average burden hours per response; (7) an estimate of the total number of hours needed to prepare the form. This entry is not subject to 44 U.S.C. 3504(h).

Dated: August 29, 2022.
Daniel Beattie,
Director, Office of Guidelines and Panel Operations, National Endowment for the Arts.

[FR Doc. 2022-18878 Filed 8-31-22; 8:45 am]

BILLING CODE 7537-01-P